INTERNATIONAL TRADE COMMISSION

[Investigation Nos. 701-TA-451 and 731-TA-1126-1128 (Preliminary)]

Certain Lightweight Thermal Paper From China, Germany, and Korea

Determinations

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is threatened with material injury by reason of imports from China of certain lightweight thermal paper,² provided for in subheadings 4811.90.80 and 4811.90.90 of the Harmonized Tariff Schedule of the United States, that are alleged to be sold in the United States at less than fair value (LTFV) and subsidized by the Government of China.³ The Commission determines that there is a reasonable indication that an industry in the United States is materially injured or threatened with material injury by reason of imports of certain lightweight thermal paper from Germany that are alleged to be sold in the United States at LTFV.⁴ The Commission also determines that imports of certain lightweight thermal paper from Korea are negligible, and therefore, terminates its investigation with regard to Korea.

¹ The record is defined in sec. 207.2(f) of the Commission's Rules of Practice and Procedure (19 CFR 207.2(f)).

² “Certain lightweight thermal paper” is thermal paper with a basis weight of 70 grams per square meter (“g/m²”) (with a tolerance of ±4.0 g/m²) or less; irrespective of dimensions; with or without a base coat on one or both sides; with thermal active coating(s) on one or both sides that is a mixture of the dye and the developer that react and form an image when heat is applied; with or without a top coat; and without an adhesive backing. Certain lightweight thermal paper is typically (but not exclusively) used in point-of-sale applications such as ATM receipts, credit card receipts, gas pump receipts, and retail store receipts.

³ Commissioner Charlotte R. Lane determines that there is a reasonable indication that an industry in the United States is materially injured by reason of subject imports of lightweight thermal paper from China that are alleged to be sold at LTFV and subsidized.

⁴ Chairman Daniel R. Pearson, Vice Chairman Shara L. Aranoff, and Commissioner Deanna Tanner Okun dissenting. Commissioners Charlotte R. Lane and Dean A. Pinkert's determinations are on the basis of reasonable indication of material injury. Commissioner Irving A. Williamson's determination is on the basis of reasonable indication of threat of material injury.

Commencement of Final Phase Investigations

Pursuant to section 207.18 of the Commission's rules, the Commission also gives notice of the commencement of the final phase of its investigations concerning certain lightweight thermal paper from China and Germany. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 19, 2007, a petition was filed with the Commission and Commerce by Appleton Papers, Inc., Appleton, WI, alleging that an industry in the United States is materially injured or threatened with material injury by reason of LTFV imports of certain lightweight thermal paper from China, Germany, and Korea and by reason of subsidized imports from China. Accordingly, effective September 19, 2007, the Commission instituted antidumping and countervailing duty investigation Nos. 701-TA-451 and 731-TA-1126-1128 (Preliminary).

Notice of the institution of the Commission's investigations and of a public conference to be held in connection therewith was given by posting copies of the notice in the Office of the Secretary, U.S. International Trade Commission, Washington, DC, and by publishing the notice in the Federal Register of September 27, 2007 (72 FR 54926). The conference was held in Washington, DC, on October 10, 2007, and all persons who requested the opportunity were permitted to appear in person or by counsel.

The Commission transmitted its determinations in these investigations to the Secretary of Commerce on November 27, 2007. The views of the Commission are contained in USITC Publication 3964 (November 2007), entitled Certain Lightweight Thermal Paper from China, Germany, and Korea: Investigation Nos. 701-TA-451 and 731-TA-1126-1128 (Preliminary).

Issued: December 5, 2007.
By order of the Commission.
Marilyn R. Abbott,
Secretary to the Commission.

[FR Doc. E7-23914 Filed 12-10-07; 8:45 am]

BILLING CODE 7020-02-P